SMALL BUSINESS ADMINISTRATION

13 CFR Part 121

Small Business Size Standards; General Building Contractors, Heavy Construction, Except Building, Dredging and Surface Cleanup Activities, Special Trade Contractors, Garbage and Refuse Collection, Without Disposal, and Refuse Systems; Correction

AGENCY: Small Business Administration.

ACTION: Final rule; correction.

SUMMARY: This is a technical correction to the final rule that the Small Business Administration (SBA) published in the Federal Register (65 FR 37689) on June 16, 2000. In that rule, the Small Business Administration established higher size standards in annual receipts for all of the construction industries including dredging, and for garbage and refuse collection, and refuse systems. SBA is providing below a replacement table for the one that was contained in that final rule. The table that was published on June 16, 2000 contained omissions that are significant and that SBA believes would be misleading if not corrected.

DATES: This rule is effective on July 17, 2000.

FOR FURTHER INFORMATION CONTACT: Robert N. Ray, Office of Size Standards, (202) 205-6618.

SUPPLEMENTARY INFORMATION: This is a technical correction to the final rule that the Small Business Administration (SBA) published in the Federal Register (65 FR 37689) on June 16, 2000. In that rule, the SBA established a size standard of $27.5 million in average annual receipts for all industries in General Building Contractors, Standard Industrial Classification (SIC) Major Group 15, and for all industries except Dredging and Surface Cleanup Activities in Heavy Construction Other Than Building Construction, SIC Major Group 16; $17.0 million for Dredging and Surface Cleanup Activities, part of SIC 1629, Heavy Construction, Not Elsewhere Classified (NEC); $11.5 million for all industries in Special Trade Contractors, SIC Major Group 17; and $10.0 million for Garbage and Refuse Collection, Without Disposal, part of SIC 4212, Local Trucking Without Storage, and Refuse Systems, SIC 4953. These size standards were published in the table without dollar signs for five of the receipt-based size standards. The omission of dollar signs for these industries will lead to businesses with receipt-based size standards believing that they have employee-based size standards. As a result, eligible businesses would consider themselves ineligible in many cases for SBA program assistance. This correction publishes a corrected table for the one that was contained in that final rule.

In rule FR Doc. 00-15258 published on June 16, 2000, (65 FR 37689) make the following correction:

§ 121.201 [Corrected]

1. On page 37694, in § 121.201, the table “SIZE STANDARDS BY SIC INDUSTRY” is corrected to read as follows:

§ 121.201 What size standards has SBA identified by Standard Industrial Classification codes?

* * * * *

Size Standards By SIC Industry
SIC code and description | Size standards in number of employees or millions of dollars
* * * * *
Division C—Construction:
Major Group 15—Building Construction—General Contractors and Operative Builders | $27.5
Major Group 16—Heavy Construction Other Than Building Construction—Contractors | $27.5
Except:
1629 (Part) Dredging and Surface Cleanup Activities | $17.01
Major Group 17—Construction—Special Trade Contractors | $11.5
* * * * *
Division E—Transportation, Communications, Electric, Gas, and Sanitary Services:
* * * * *
4212 (Part) Garbage and Refuse Collection, Without Disposal | $10.0
* * * * *
4953 Refuse Systems | $10.0
Footnotes:
¹ SIC code 1629—Dredging: To be considered small for purposes of Government procurement, a firm must perform at least 40 percent of the volume dredged with its own equipment or equipment owned by another small dredging concern.
* * * * *

Dated: August 7, 2000.
Gary M. Jackson,
Assistant Administrator for Size Standards.

[FR Doc. 00-20475 Filed 8-14-00; 8:45 am]

BILLING CODE 8025-01-P